DEPARTMENT OF THE INTERIOR

Fish and Wildlife Service

Establishment of Caddo Lake National Wildlife Refuge

AGENCY: Fish and Wildlife Service, Interior.

ACTION: Notice.

SUMMARY: The Director of the U.S. Fish and Wildlife Service approved the establishment of the Caddo Lake National Wildlife Refuge on portions of the approximately 8,500-acre Longhorn Army Ammunition Plant in Harrison County, Texas. This refuge will be established for the purpose of migratory bird and other fish and wildlife management, conservation, and protection.

DATES: This action was effective on October 13, 2000.

FOR FURTHER INFORMATION CONTACT: Barbara Rose with the Fish and Wildlife Service in Albuquerque, NM, 505-248-7412.

SUPPLEMENTARY INFORMATION: The authority to transfer real property jurisdiction, custody, and control from one Federal agency to another is found in the Federal Property and Administrative Services Act of 1949, as amended (40 U.S.C. 471-535). In addition, the Act of May 19, 1948, Public Law 80-537 (16 U.S.C. 667b) provides that, upon request, “real property which is under the jurisdiction or control of a Federal agency and no longer required by such agency * * * may, notwithstanding any other provisions of law, be transferred, without reimbursement * * * to the Secretary of the Interior if the real property has particular value in carrying out the national migratory bird management program.” The Secretary also has authority pursuant to the Fish and Wildlife Coordination Act of 1934, as amended (16 U.S.C. 661-666c), and the Fish and Wildlife Act of 1956, as amended (16 U.S.C. 742 a-j; 70 Stat. 1119), to enter into cooperative agreements to manage fish and wildlife resources on lands owned by or under the jurisdiction of another entity. The National Wildlife Refuge System Administration Act of 1966, as amended (16 U.S.C. 668dd), consolidates all areas administered by the Fish and Wildlife Service for the management, conservation, and protection of fish and wildlife (including those areas managed by the Service under cooperative agreement with other Federal departments or agencies) into the National Wildlife Refuge System and places restrictions on the transfer, exchange, or other disposal of lands within the System.

The Director approved the establishment of the Caddo Lake National Wildlife Refuge on October 13, 2000. The Service will enter into a cooperative agreement with the Department of the Army that will establish the Caddo Lake National Wildlife Refuge. Initially we will obtain permission to conduct migratory bird and other fish and wildlife protection and conservation activities on portions of the approximately 8,500-acre Longhorn Army Ammunition Plant (LHAAP). In this arrangement the Army will retain primary jurisdiction, custody, and control of the LHAAP, and we will create an “overlay” refuge on a portion of the Army lands. The Army is in the process of cleaning up those areas within the LHAAP that have environmental contaminants. When the Army, the Environmental Protection Agency, and the Service agree that the lands within the overlay refuge are suitable for transfer, we could then accept primary jurisdiction, custody, and control over these lands, and the overlay status would dissipate.

The Army acquired the land from a number of private landowners and established the LHAAP in October 1942 to produce trinitrotoluene (TNT). The plant became excess to the Army's needs in July 1997, and on April 17, 1998, we expressed an interest in receiving a no-cost transfer of the lands under the authority of the Act of May 19, 1948. The site is located within Harrison County, Texas, in the unincorporated village of Karnack and is adjacent to the Caddo Lake State Park and Wildlife Management Area. The area is in the northeastern part of the State, about 3 miles (4.8 km) from the Louisiana State line and 25 miles (40 km) from the City of Shreveport, Louisiana. It is about 15 miles (24 km) from the cities of Marshall and Jefferson, Texas.

The refuge is designed to protect one of the highest quality old-growth bottomland hardwood forests in the southeastern United States. The hardwood forest lies along Harrison Bayou, and the associated wetlands are located along the shore of Caddo Lake. These wetlands are listed as a “Wetland of International Significance” under the Ramsar Convention on Wetlands and is one of only 17 such designated areas in the United States.

The establishment of this refuge will ensure the conservation and protection of the migratory and resident waterfowl and neotropical migratory birds associated with these wetlands. Studies have listed up to 224 species of birds, 22 species of amphibians, 46 species of reptiles, and 93 species of fish in this area. A total of 20 animal species of concern are located or potentially located on the LHAAP and adjacent Caddo Lake. They include seven species of fish, six species of reptiles, six species of birds and four species of mammals. Two species are federally listed under the Endangered Species Act (Louisiana black bear and bald eagle).

In compliance with the National Environmental Policy Act of 1969, we prepared a draft Environmental Assessment (EA), distributed on August 11, 2000, that evaluated four alternatives and their potential impacts. A public meeting/open house was held on August 21, 2000, in Karnack, Texas, at the Caddo Lake State Park. The comment period closed on September 11, and the final EA was completed on September 21, 2000. The proposal was coordinated with the State of Texas Clearinghouse in the Governor's Office, the Congressional delegations, Harrison County, Texas Parks and Wildlife Department, The State Historic Preservation Office, Texas Natural Resource Conservation Commission, the Department of the Army, the U.S. Army Corps of Engineers, the U.S. Environmental Protection Agency, and the General Services Administration—Greater Southwest Region, the “Friends of Longhorn,” the Caddo Lake Institute, and other local citizens. All comments received at the public meeting and via letters, faxes, and email during the comment period were considered and incorporated in the final EA.

We received a total of 64 letters on the draft EA, 59 of which supported the preferred alternative proposal for an overlay refuge with potential transfer of jurisdiction, custody, and control to the Service. One letter expressed opposition to any Service involvement at the LHAAP because of possible impacts on future economic development. Two letters supported an option of retaining the refuge in overlay status only; two letters expressed no preference. A total of 52 people attended the public meeting, and 14 spoke during the meeting. All speakers and questioners at the meeting and open house expressed support for some Service involvement at the LHAAP. In addition, the Army has published a number of environmental documents dealing with the cleanup of contaminants during the last decade. Many public meetings have been held and continue to be held to update the public on the cleanup process.

Based on the documentation contained in the environmental assessment, we signed a Finding of No Significant Impact on September 22, 2000. We will establish an overlay refuge and potentially accept primary jurisdiction, custody and control of up to 8,500 acres at the Longhorn Army Ammunition Plant in Harrison County, Texas. A draft Conceptual Management Plan has been prepared.

Primary Author: Barbara Wyman, Division of Realty, National Wildlife Refuge System.

Dated: October 13, 2000.
Jamie Rappaport Clark,
Director, U.S. Fish and Wildlife Service.

[FR Doc. 00-26845 Filed 10-18-00; 8:45 am]

BILLING CODE 4310-55-U